DEPARTMENT OF HEALTH AND HUMAN SERVICES

Centers for Medicare and Medicaid Services

[Document Identifier: CMS-276, CMS-1500, CMS-1490U, CMS-1490S, CMS-1450, and CMS-R-285, CMS-R-290, and CMS-2744]

Agency Information Collection Activities: Submission for OMB Review; Comment Request

AGENCY: Centers for Medicare and Medicaid Services.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

(1) Type of Information Collection Request: Revision of a Currently Approved Collection; Title of Information Collection: Prepaid Health Plan Cost Report; Form No.: CMS-276 (OMB #0938-0165; Use: These forms are needed to establish the reasonable cost of providing covered services to the enrolled Medicare population of an HMO in accordance with Section 1876 of the Social Security Act.; Frequency: Recordkeeping and Reporting on occasion; Affected Public: Business or other for-profit; Number of Respondents: 45; Total Annual Responses: 225; Total Annual Hours: 7,860.

(2) Type of Information Collection Request: Extension of a currently approved collection; Title of Information Collection: Medicare/Medicaid Health Insurance Common Claim Form, Instructions, and Supporting Regulations: 42 CFR 424.32, 424.44; Form No.: CMS-1500, CMS-1490U, CMS-1490S (OMB #0938-0008); Use: This form is a standardized claim form for use in the Medicare/Medicaid programs to apply for reimbursement for covered services. Many private insurers also use this form. Use of this form reduces cost and administrative burdens associated with professional claims because only one format needs to be used and maintained. CMS does not require exclusive use of this form for Medicaid.; Frequency: On occasion; Affected Public: State, Local or Tribal Government, Business or other for-profit, Not-for-profit institutions; Number of Respondents: 1,216,702; Total Annual Responses: 740,215,135; Total Annual Hours: 42,941,276.

(3) Type of Information Collection Request: Extension of a currently approved collection; Title of Information Collection: Medicare Uniform Institutional Provider Bill and Supporting Regulations; Form No.: CMS-1450 (OMB #0938-0279); Use: This standardized form is used in the Medicare/Medicaid program to apply for reimbursement of covered services by all providers that accept Medicare/Medicaid assigned claims.; Frequency: On occasion; Affected Public: Not for profit institutions and Business or other for profit; Number of Respondents: 46,708; Total Annual Responses: 158,603,290; Total Annual Hours: 1,666,208.

(4) Type of Information Collection Request: Extension of a currently approved collection; Title of Information Collection: Request for Retirement Benefit Information; Form No.: CMS-R-285 (OMB #0938-0769); Use: This information is needed to determine whether a beneficiary meets the requirements for reduction of Part A premium to zero.; Frequency: On occasion; Affected Public:, State and Local or Tribal Government; Number of Respondents: 1500; Total Annual Responses: 1500; Total Annual Hours: 208.

(5) Type of Information Collection Request: Extension of a currently approved collection; Title of Information Collection: Procedures for Making National Coverage Decisions; Form No.: CMS-R-0290 (OMB #0938-0776); Use: These information collection requirements provide the process CMS will use to make a national coverage decision for a specific item or service under sections 1862 and 1871 of the Social Security Act. This will streamline our decision making process and will increase the opportunities for public participation in making national coverage decisions; Frequency: Other (as needed); Affected Public: Business or other for-profit, Not-for-profit institutions; Number of Respondents: 200; Total Annual Responses: 200; Total Annual Hours: 8,000.

(6) Type of Information Collection Request: Extension of a currently approved collection; Title of Information Collection: End Stage Renal Disease Medical Information System ESRD Facility Survey; Form No.: CMS-2744 (OMB #0938-0447); Use: The ESRD Facility Survey form (CMS-2744) is completed annually by Medicare-approved providers of dialysis and transplant services. The CMS-2744 is designed to collect information concerning treatment trends, utilization of services and patterns of practice in treating ESRD patients.; Frequency: Annually; Affected Public:, Business or other for-profit and Not-for-profit institutions; Number of Respondents: 4,225; Total Annual Responses: 4,225; Total Annual Hours: 33,800.

To obtain copies of the supporting statement and any related forms for the proposed paperwork collections referenced above, access CMS Web Site address at http://cms.hhs.gov/regulations/pra/default.asp, or e-mail your request, including your address, phone number, OMB number, and CMS document identifier, to Paperwork@cms.hhs.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503.

Dated: January 9, 2003.
John P. Burke, III,
CMS Reports Clearance Officer, Office of Strategic Operations and Regulatory Affairs, Division of Regulations Development and Issuances.

[FR Doc. 03-1055 Filed 1-16-03; 8:45 am]

BILLING CODE 4120-03-P